DEPARTMENT OF HEALTH AND HUMAN SERVICES

Substance Abuse and Mental Health Services Administration

Fiscal Year (FY) 2005 Funding Opportunity

AGENCY: Substance Abuse and Mental Health Services Administration, HHS.

ACTION: Notice of intent to award a Single Source Grant to the Florida Department of Children and Families.

SUMMARY: This notice is to inform the public that the Substance Abuse and Mental Health Services Administration (SAMHSA) intends to award approximately $11,000,000 (total costs) for a one-year project period to the Florida Department of Children and Families. This is not a formal request for applications. Assistance will be provided only to the Florida Department of Children and Families based on the receipt of a satisfactory application that is approved by an independent review group.

Funding Opportunity Title: OA-05-002.

Catalog of Federal Domestic Assistance (CFDA) Number: 93.003.

Authority: Section 501(d)(5) of the Public Health Service Act, as amended.

Justification: Only the Florida Department of Children and Families is eligible to apply. The Substance Abuse and Mental Health Services Administration (SAMHSA) is seeking to award a single source grant to the Florida Department of Children and Families to assist individuals and families needing mental health and substance abuse services, interventions and treatment related to the impact of Hurricanes Charley, Frances, Jeanne and Ivan, which made landfall in the State of Florida within a period of six weeks during the months of August and September of 2004. Services that may be supported under this grant award may include the following: (1) Assessment of mental health and substance abuse needs; (2) referral services based on assessed mental health and substance abuse service needs; (3) direct mental health intervention services; (4) direct substance abuse services; (5) quality assurance and monitoring; and (6) process and outcome evaluation.

The Florida Department of Children and Families (DCF) is the agency responsible for mental health and substance abuse services in the State of Florida. Because the impact of the hurricanes significantly affected 24 of Florida's 67 counties, a coordinated state-wide response is necessary. DCF is the only agency that can coordinate a state-wide response, including planning and implementing services for all impacted communities across the State.

FOR FURTHER INFORMATION CONTACT: Linda Ligenza, LCSW, Substance Abuse and Mental Health Services Administration, 1 Choke Cherry Road, Room 6-1132, Rockville, MD 20857; telephone: (240) 276-1854; E-mail: linda.ligenza@samhsa.hhs.gov.

Dated: February 16, 2005.
Daryl Kade,
Director, Office of Policy, Planning and Budget, Substance Abuse and Mental Health Services Administration.

[FR Doc. 05-3645 Filed 2-24-05; 8:45 am]

BILLING CODE 4162-20-P